Title 3—

The President

Directive of January 31, 2000

Resolution Regarding Use of Range Facilities on Vieques, Puerto Rico (Referendum)

Directive to the Secretary of Defense [and] Director, Office of Management and Budget

By virtue of the authority vested in me and in order to further the interests of national security and to address the legitimate interests and concerns of the residents of Vieques and the people of Puerto Rico, I hereby direct the following:

1. The future of Navy training on Vieques will be determined by a referendum of the registered voters of Vieques, using Puerto Rico electoral laws and regulations as they exist as of the date of this directive. This referendum will occur on May 1, 2001, or 270 days prior to or following May 1, 2001, the exact date to be specified on the request of the Department of the Navy. (This specified date and the terms of the referendum must be requested at least 90 days in advance of the referendum.) It is understood that the full implementation of this directive is contingent upon the Government of Puerto Rico authorizing and supporting this referendum, and the cooperation of the Government of Puerto Rico as specified in paragraph 5(a).

2. This referendum will present two alternatives. The first shall be that the Navy will cease all training not later than May 1, 2003. The second will permit continued training, to include live fire training, on terms proposed by the Navy. Live fire training is critical to enhance combat readiness for all our military personnel and must occur in some location.

3. In the event the referendum selects the option of termination of Navy activities, then

(a) Navy lands on the Eastern side of Vieques (including the Eastern Maneuver Area and the Live Impact Area) will be transferred within 1 year of the referendum to the General Services Administration (GSA) for disposal under the Federal Property and Administrative Services Act, except for conservation zones, which will be transferred to the Department of the Interior for continued preservation.

(b) The GSA will supervise restoration of the lands described in section 3(a) consistent with the Comprehensive Environmental Response, Compensation, and Liability Act (CERCLA) before it is further transferred under the Federal Property and Administrative Services Act, except that the Live Impact Area will be swept for ordnance and fenced to meet the same range standards used after the closure of the live impact area used by Naval Air Station, South Weymouth, Massachusetts. The Government of Puerto Rico may request transfer of the restored lands in accordance with the Federal Property and Administrative Services Act.

(c) Under no conditions will the land described in this section be returned to the Department of Defense or used for military training.

4. In the event the referendum selects the option of continued training submitted by the Navy, the Office of Management and Budget will request congressional funding to further provide for the enhancement of infrastructure and housing on the Western portions of Vieques in the amount of $50 million.

5. Between the date of this directive and the referendum, the following will occur:

(a) The Department of Defense and the Government of Puerto Rico will work in cooperation with relevant Federal authorities to ensure the integrity and accessibility of the range is uninterrupted and trespassing and other intrusions on the range cease entirely by providing complementary support among Federal and Puerto Rican jurisdictions.

(b) Navy training on Vieques will recommence, but it shall not exceed 90 days per calendar year and will be limited to nonexplosive ordnance, which may include spotting devices.

(c) The Navy will ensure procedures are in place that will enhance safety and will position ships to reduce noise in civilian areas whenever possible.

(d) Before any major training occurs on the range, the Government of Puerto Rico, through its Secretary of State, will be given 15 days notification under the terms of the Memorandum of Understanding of 1983.

(e) The Office of Management and Budget will initiate a funding request to the Congress:

(1) to fund a Public Health Service study in coordination with appropriate agencies to review health concerns raised by the residents of Vieques.

(2) to complete the conveyance of 110 acres of Navy property to extend the runway at the Vieques Municipal Airport to accommodate larger passenger aircraft; and for the Navy to provide training and supplemental equipment to bolster the airport fire, safety, and resource capability.

(3) to maintain the ecosystem and conservation zones and implement the sea turtle, sea mammal, and Brown Pelican management plans as specified in the Memorandum of Understanding of 1983.

(f) Within 30 days of this directive, the Navy will submit legislation to the Congress to transfer land on the Western side of Vieques surrounding the Naval Ammunition Facility (except 100 acres of land on which the ROTHR and Mount Pirata telecommunications sites are located). The legislation submitted will provide for land transfer not later than December 31, 2000. This transfer will be to the Government of Puerto Rico for the benefit of the municipality of Vieques as determined by the Planning Board of the Government of Puerto Rico. This land shall be restored consistent with CERCLA standards prior to transfer.

6. The Director of OMB shall publish this directive in the Federal Register.

wj

THE WHITE HOUSE,

Washington, January 31, 2000.

[FR Doc. 00-2750

Filed 2-3-00; 11:22 am]

Billing code 3110-01-M